NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 9, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Permit Application No.: 2008-018, Juan M. Lopez-Bautista, Department of Biological Sciences, The University for Alabama, P.O. Box 870345, 425 Scientific Collections Building, Tuscaloosa, AL 35487-03451.

Activity for Which Permit is Requested: Take. The applicant plans to collect two 10 centimeters samples of terrestrial algae (Prasiola crispa) found widespread through out Antarctica. Samples will be stored in silica gel and returned to the United States for analysis. Part of the sample will be removed and used for DNA extractions, and the rest will be deposited as voucher specimens in the herbarium of the University of Alabama. The DNA sample will be used for PCR and DNA sequencing.

Location: Palmer Station area, Anvers Island.

Dates: February 2, 2008 to July 31, 2008.

2. Applicant: Permit Application No.: 2008-019, Sam Feola, Project Manager, Raytheon Technical Services Company, LLC., Polar Services, 7400 S. Tucson Way, Centennial, CO 80112-3938.

Activity for Which Permit is Requested: Enter Antarctic Specially Protected Area (ASPA). The applicant plans enter the Avian Island Antarctic Specially Protected Area #117 to move personnel and supplies from ship to shore for a science field camp, and to conduct repairs to an abandoned refuge hut on the south shore of Avian Island.

Location: Avian Island (ASPA #117) .

Dates: January 10, 2008 to January 31, 2009.

Nadene G. Kennedy,
Permit Officer, Office of Polar Programs.

[FR Doc. E7-17650 Filed 9-6-07; 8:45 am]

BILLING CODE 7555-01-P